Title 3—

The President

Executive Order 14356 of October 15, 2025

Ensuring Continued Accountability in Federal Hiring

By the authority vested in me as President by the Constitution and the laws of the United States of America, it is hereby ordered:

Section 1. Background. In just 8 months, my Administration has dramatically reduced the size of the Federal workforce, improving the efficient delivery of Government services while prioritizing hiring in national security, immigration enforcement, public safety, and other roles that further my Administration's priorities and benefit American taxpayers. The results of this approach have surpassed the ratio of four departures for each new hire set forth in Executive Order 14210 of February 11, 2025 (Implementing the President's “Department of Government Efficiency” Workforce Optimization Initiative). To protect and expand upon these historic improvements, and to ensure that the Federal Government is optimally staffed to meet critical mission needs and implement the agenda that the American people elected me to pursue, Federal hiring shall be subject to the following policies and procedures going forward.

Sec. 2. Policies and Procedures to Govern Federal Hiring. No Federal civilian position that is vacant may be filled, and no new position may be created, except as provided for in this order or required by applicable law. Except as set forth in section 3 of this order, this policy applies to all executive departments and agencies (agencies) regardless of their sources of operational or programmatic funding.

(a) Compliance with the Merit Hiring Plan. Any Federal hiring shall be consistent with the Merit Hiring Plan issued by the Assistant to the President for Domestic Policy and the Director of the Office of Personnel Management (OPM) on May 29, 2025, pursuant to Executive Order 14170 of January 20, 2025 (Reforming the Federal Hiring Process and Restoring Merit to Government Service).

(b) Strategic Hiring Committees. Within 30 days of the date of this order, each agency head shall establish a Strategic Hiring Committee to approve the creation or filling, as applicable, of each vacancy within their agency. The Strategic Hiring Committee shall include the deputy agency head and the chief of staff to the agency head, along with such other senior officials as the agency head may designate. The Strategic Hiring Committee shall ensure that agency hiring is consistent with the national interest, agency needs, and the priorities of my Administration. Agency Strategic Hiring Committees shall provide written notice of approved hires to OPM following the approval of such hires.

(c) Annual Staffing Plans and Quarterly Updates.

(i) Within 60 days of the date of this order, each agency shall prepare an Annual Staffing Plan, in coordination with OPM and the Office of Management and Budget (OMB), to ensure that new career appointments in the upcoming fiscal year are in the highest-need areas and aligned with the priorities of my Administration. Agencies shall submit final Annual Staffing Plans to OPM and OMB. In these plans, agencies shall seek to improve operational efficiency; eliminate duplicative or unnecessary functions and positions; reduce unnecessary or low-value contractor positions; promote employee accountability; enhance delivery of essential services; appropriately prioritize hiring for national security, homeland security, and public safety positions; and implement the recruitment initiatives described in the Merit Hiring Plan. Going forward, agencies shall prepare, in coordination with OPM and OMB, Annual Staffing Plans to implement at the start of each new fiscal year.

(ii) Agencies shall comply with the Annual Staffing Plans throughout the fiscal year, but agencies may update their plans during the course of the year based on enactment of relevant appropriations or authorizing legislation, or otherwise amend their plans in coordination with OPM and OMB.

(iii) Agencies shall submit updates to OPM and OMB at the beginning of each quarter, beginning with the second quarter of the 2026 fiscal year, showing progress in implementing their Annual Staffing Plans.

Sec. 3. Exceptions. (a) This order does not apply to:

(i) the Executive Office of the President or the components thereof;

(ii) non-career positions requiring Presidential appointment or Senate confirmation;

(iii) non-career positions in the Senior Executive Service;

(iv) Schedule C or Schedule G positions in the excepted service;

(v) military personnel of the Armed Forces;

(vi) positions related to immigration enforcement, national security, or public safety; or

(vii) appointment of officials through temporary organization hiring authority pursuant to section 3161 of title 5, United States Code.

(b) This order does not limit or prohibit the appointment or hiring of any other non-career employees or officials if approved by an agency head appointed by the President or another official appointed by the President.

(c) This order does not limit or prohibit any appointment or hiring specifically approved by the head of an executive department, as defined in 5 U.S.C. 101. OPM may also authorize the head of an independent establishment, as defined in 5 U.S.C. 104, to use this exception.

(d) This order does not limit or prohibit the hiring of personnel where such a limit or prohibition would conflict with applicable law.

(e) The Director of OPM may grant appropriate exemptions from this order. Exemptions previously granted by OPM under the Presidential Memoranda of January 20, 2025 (Hiring Freeze), and July 7, 2025 (Ensuring Accountability and Prioritizing Public Safety in Federal Hiring), shall remain in effect unless withdrawn by OPM.

Sec. 4. Report. Within 180 days of the date of this order, the Director of OMB and the Director of OPM shall submit a joint report to the President, through the Assistant to the President for Domestic Policy, regarding implementation of this order, including a recommendation as to whether any of its provisions should be modified or terminated.

Sec. 5. General Provisions. (a) Nothing in this order shall be construed to impair or otherwise affect:

(i) the authority granted by law to an executive department or agency, or the head thereof; or

(ii) the functions of the Director of OMB relating to budgetary, administrative, or legislative proposals.

(b) This order shall be implemented consistent with applicable law and subject to the availability of appropriations.

(c) Contracting outside the Federal Government to circumvent the intent of this order is prohibited.

(d) This order does not prohibit making reallocations or reassignments to meet the highest priority needs; maintain essential services; and protect national security, homeland security, and public safety.

(e) This order shall not adversely impact the provision of Social Security, Medicare, or veterans' benefits.

(f) This order is not intended to, and does not, create any right or benefit, substantive or procedural, enforceable at law or in equity by any party against the United States, its departments, agencies, or entities, its officers, employees, or agents, or any other person.

(g) If any provision of this order, or the application of any provision to any person or circumstance, is held to be invalid, the remainder of this order and the application of its provisions to any other persons or circumstances shall not be affected thereby.

(h) The costs for publication of this order shall be borne by OPM.

THE WHITE HOUSE,

October 15, 2025.

[FR Doc. 2025-19614

Filed 10-17-25; 11:15 am]

Billing code 6325-38-P